DEPARTMENT OF ENERGY

Federal Energy Regulatory Commission

[Project No. 15246-000]

PacifiCorp; Notice of Preliminary Permit Application Accepted for Filing and Soliciting Comments, Motions To Intervene, and Competing Applications

On October 13, 2021, PacifiCorp filed an application for a preliminary permit, pursuant to section 4(f) of the Federal Power Act, proposing to study the feasibility of the Winter Ridge Pumped Storage Project (Winter Ridge Project or project) to be located near Summer Lake and Paisley, Lake County, Oregon. The sole purpose of a preliminary permit, if issued, is to grant the permit holder priority to file a license application during the permit term. A preliminary permit does not authorize the permit holder to perform any land-disturbing activities or otherwise enter upon lands or waters owned by others without the owners' express permission.

Two alternatives are being considered for the Winter Ridge Project. Alternative 1 would consist of the following: (1) An upper reservoir approximately two miles west of Summer Lake with a surface area of 85 acres and a storage volume of approximately 4,285 acre-feet created by a 4,700-foot-long, 120-foot-high embankment dam; (2) a lower reservoir with a surface area of 43.6 acres and a storage volume of approximately 2,156 acre-feet created by a 5,320-foot-long, 80-foot-high embankment dam; (3) a 2.23-mile-long steel penstock with a diameter of 15-feet connecting the upper reservoir with the powerhouse/pump station; (4) a 150-foot-long, 50-foot-wide concrete powerhouse/pump station located on the lower reservoir shoreline containing three 167-megawatt generating/pumping units; (5) a 9.3-mile, 500-kilovolt transmission line interconnecting to PacifiCorp's jointly owned Sycan substation; (6) a 19.2 mile underground pipeline diverting water from the Chewaucan River near Paisley to the project for initial and maintenance fill; and, (7) appurtenant facilities.

Alternative 2 would consist of the same facilities described in alternative 1 except: (1) The lower reservoir would have a surface area of 50 acres and a storage volume of approximately 2,000 acre-feet created by a 4,100-foot-long, 170-foot-high embankment dam; (2) the upper reservoir would connect to the powerhouse/pump station by a 0.9-mile-long excavated tunnel and 1.5-mile-long steel penstock both having a diameter of 15-feet; and (3) the transmission line would be 9.8 miles in length interconnecting to the same substation.

The estimated annual generation of the Winter Ridge Project would be 1,460 gigawatt-hours.

Applicant Contact: Tim Hemstreet, Managing Director, Renewable Energy Development, PacifiCorp, 825 NE Multnomah, Suite 1800, Portland, OR 97232; email: Tim.Hemstreet@pacificorp.com; phone: (503) 813-6170.

FERC Contact: Kristen Sinclair; email: kristen.sinclair@ferc.gov; phone: (202) 502-6587.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15246-000.

More information about this project, including a copy of the application, can be viewed or printed on the “eLibrary” link of Commission's website at http://www.ferc.gov/docs-filing/elibrary.asp. Enter the docket number (P-15246) in the docket number field to access the document. For assistance, contact FERC Online Support.

Dated: December 21, 2021.
Kimberly D. Bose,
Secretary.

[FR Doc. 2021-28207 Filed 12-27-21; 8:45 am]

BILLING CODE 6717-01-P